NATIONAL SCIENCE FOUNDATION

Agency Information Collection Activities: Comment Request; Office of Equity and Civil Rights Awardee Survey Form

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by January 30, 2023 to be assured consideration. Comments received after that date will be considered to the extent practicable. Send comments to address below.

FOR FURTHER INFORMATION CONTACT: Suzanne H. Plimpton, Reports Clearance Officer, National Science Foundation, 2415 Eisenhower Avenue, Suite E7400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: Office of Equity and Civil Rights Awardee Survey Form.

OMB Control No.: 3145-New.

Expiration Date of Approval: Not applicable.

Abstract: The purpose of the National Science Foundation's (NSF) Office of Equity and Civil Rights (OECR) Awardee Survey Form is to collect awardee feedback and input on NSF's awardee term and condition that requires NSF to be notified: (1) of any findings/determinations regarding the PI or co-PI that demonstrate a violation of awardee codes of conduct, policies, regulations or statutes relating to sexual harassment, other forms of harassment, or sexual assault; or (2) if the awardee places the PI, or co-PI on administrative leave or imposes an administrative action relating to a finding or investigation of a violation of awardee policies, codes of conduct, statutes or regulations relating to sexual harassment, other forms of harassment, or sexual assault. This survey will assist NSF OECR in assessing how the term and condition has been implemented at awardee organizations and whether improvements or adjustments to the term and condition are either necessary or appropriate to maximize its efficacy and ease of use. This survey will allow us to reach out directly to NSF awardees, to include Authorized Organizational Representatives, Title IX coordinators and researchers, to better understand their respective experiences with the term and condition and to gather their comments for adjustments or enhancements to it.

Respondents: Representatives from NSF Awardee Institutions.

Estimated Number of Annual Respondents: 100.

Burden on the Public: Estimated 25 minutes per respondent to complete the survey, for a total estimated burden time of 51 hours. This information should be readily available to the representatives selected.

Dated: November 23, 2022.
Suzanne H. Plimpton,
Reports Clearance Officer, National Science Foundation.

[FR Doc. 2022-26015 Filed 11-28-22; 8:45 am]

BILLING CODE 7555-01-P